DEPARTMENT OF ENERGY

Federal Energy Regulatory Commission

Combined Notice of Filings #1

Take notice that the Commission received the following electric rate filings:

Docket Numbers: ER14-696-006.

Applicants: Entergy Services, Inc.

Description: Compliance filing: LBA Compliance Errata ER14-696 12-1-2017 to be effective 12/19/2013.

Filed Date: 12/1/17.

Accession Number: 20171201-5251.

Comments Due: 5 p.m. ET 12/22/17.

Docket Numbers: ER14-697-007.

Applicants: Entergy Services, Inc.

Description: Compliance filing: LBA Compliance Errata ER14-697 12-1-2017 to be effective. 12/19/2013.

Filed Date: 12/1/17.

Accession Number: 20171201-5254.

Comments Due: 5 p.m. ET 12/22/17.

Docket Numbers: ER14-699-007

Applicants: Entergy Services, Inc.

Description: Compliance filing: LBA Compliance Errata ER14-699 11-30-2017 to be effective 12/19/2013.

Filed Date: 12/1/17.

Accession Number: 20171201-5258.

Comments Due: 5 p.m. ET 12/22/17.

Docket Numbers: ER14-702-006.

Applicants: Entergy Arkansas, Inc.

Description: Compliance filing: LBA Compliance Errata ER14-702 12-1-2017 to be effective 12/19/2013.

Filed Date: 12/1/17.

Accession Number: 20171201-5054.

Comments Due: 5 p.m. ET 12/22/17.

Docket Numbers: ER14-703-006.

Applicants: Entergy Services, Inc.

Description: Compliance filing: LBA Compliance Errata ER14-701 12-1-2017 to be effective 12/19/2013.

Filed Date: 12/1/17.

Accession Number: 20171201-5156.

Comments Due: 5 p.m. ET 12/22/17.

Docket Numbers: ER14-703-007.

Applicants: Entergy Services, Inc.

Description: Compliance filing: LBA Compliance Errata ER14-703 12-1-2017 to be effective 12/19/2013.

Filed Date: 12/1/17.

Accession Number: 20171201-5165.

Comments Due: 5 p.m. ET 12/22/17.

Docket Numbers: ER14-704-006.

Applicants: Entergy Services, Inc.

Description: Compliance filing: LBA Compliance Errata ER14-704 12-1-2017 to be effective 12/19/2013.

Filed Date: 12/1/17.

Accession Number: 20171201-5182.

Comments Due: 5 p.m. ET 12/22/17.

Docket Numbers: ER14-2952-005.

Applicants: Midcontinent Independent System Operator, Inc.

Description: Report Filing: 2017-12-01_PIPP SSR Refund Report Plan to be effective N/A.

Filed Date: 12/1/17.

Accession Number: 20171201-5059.

Comments Due: 5 p.m. ET 12/22/17.

Docket Numbers: ER17-558-001.

Applicants: Louisville Gas and Electric Company.

Description: Compliance filing: Compliance Filing OATT Att G NOA to be effective 2/15/2017.

Filed Date: 12/1/17.

Accession Number: 20171201-5114.

Comments Due: 5 p.m. ET 12/22/17.

Docket Numbers: ER18-192-001.

Applicants: Dynegy Oakland, LLC.

Description: Tariff Amendment: Deferral of Commission Action to Permit Ongoing Settlement Discussions to be effective 12/31/9998.

Filed Date: 12/1/17.

Accession Number: 20171201-5161.

Comments Due: 5 p.m. ET 12/22/17.

Docket Numbers: ER18-363-000.

Applicants: Florida Power & Light Company.

Description: § 205(d) Rate Filing: FPL-FPUC-Original Service Agreement No. 337-NITSA and NOA to be effective 1/1/2018.

Filed Date: 11/30/17.

Accession Number: 20171130-5214.

Comments Due: 5 p.m. ET 12/21/17.

Docket Numbers: ER18-364-000.

Applicants: Midcontinent Independent System Operator, Inc.

Description: § 205(d) Rate Filing: 2017-11-30_Revisions to LRZ for the States of Louisiana and Texas to be effective 12/1/2017.

Filed Date: 11/30/17.

Accession Number: 20171130-5223.

Comments Due: 5 p.m. ET 12/21/17.

Docket Numbers: ER18-365-000.

Applicants: Access Energy Solutions, LLC.

Description: Baseline eTariff Filing: Market Based Rate Tariff to be effective 1/29/2018.

Filed Date: 12/1/17.

Accession Number: 20171201-5002.

Comments Due: 5 p.m. ET 12/22/17.

Docket Numbers: ER18-366-000.

Applicants: Midcontinent Independent System Operator, Inc., Ameren Illinois Company.

Description: § 205(d) Rate Filing: 2017-12-1_SA 2022 Ameren-Kirkwood 1st Rev WDS to be effective 11/1/2017.

Filed Date: 12/1/17.

Accession Number: 20171201-5056.

Comments Due: 5 p.m. ET 12/22/17.

Docket Numbers: ER18-367-000.

Applicants: Midcontinent Independent System Operator, Inc., Ameren Illinois Company.

Description: § 205(d) Rate Filing: 2017-12-1_Ameren-RECC WCA/UCA/WDS to be effective 1/1/2018.

Filed Date: 12/1/17.

Accession Number: 20171201-5067.

Comments Due: 5 p.m. ET 12/22/17.

Docket Numbers: ER18-368-000.

Applicants: Southern California Edison Company.

Description: § 205(d) Rate Filing: LGIA Arlington Solar, LLC Service Agreement No. 205, TOT781 to be effective 1/31/2018.

Filed Date: 12/1/17.

Accession Number: 20171201-5137.

Comments Due: 5 p.m. ET 12/22/17.

Docket Numbers: ER18-369-000.

Applicants: Southern California Edison Company.

Description: Tariff Cancellation: Notices of Cancellation GIA and Distrib Serv Agmt Ellwood Storage Project to be effective 1/23/2018.

Filed Date: 12/1/17.

Accession Number: 20171201-5140.

Comments Due: 5 p.m. ET 12/22/17.

Docket Numbers: ER18-370-000.

Applicants: Southern California Edison Company.

Description: § 205(d) Rate Filing: TO Tariff Amendment New Appendix XI to be effective 3/31/2018.

Filed Date: 12/1/17.

Accession Number: 20171201-5188.

Comments Due: 5 p.m. ET 12/22/17.

Docket Numbers: ER18-371-000.

Applicants: ISO New England Inc., New England Power Pool Participants Committee.

Description: Installed Capacity Requirements, Hydro-Quebec Interconnection Capability Credits and Related Values for 2018/2019, 2019/2020 and 2010/2021 Annual Reconfiguration Auctions of ISO New England, Inc., et al.

Filed Date: 12/1/17.

Accession Number: 20171201-5189.

Comments Due: 5 p.m. ET 12/22/17.

Docket Numbers: ER18-372-000.

Applicants: Southern California Edison Company.

Description: § 205(d) Rate Filing: Memorandum of Agreement on the Pacific Direct Current Intertie to be effective 2/1/2018.

Filed Date: 12/1/17.

Accession Number: 20171201-5244.

Comments Due: 5 p.m. ET 12/22/17.

Docket Numbers: ER18-373-000.

Applicants: American Transmission Systems, Incorporated, PJM Interconnection, L.L.C.

Description: § 205(d) Rate Filing: ATSI submits Engineering and Construction Services Agreement SA No. 4716 to be effective 1/31/2018.

Filed Date: 12/1/17.

Accession Number: 20171201-5253.

Comments Due: 5 p.m. ET 12/22/17.

Take notice that the Commission received the following qualifying facility filings:

Docket Numbers: QF18-30-000.

Applicants: Flambeau Solar Partners, LLC.

Description: Refund Report of Flambeau Solar Partners, LLC.

Filed Date: 12/1/17.

Accession Number: 20171201-5209.

Comments Due: 5 p.m. ET 12/22/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 1, 2017.
Nathaniel J. Davis, Sr.,
Deputy Secretary.

[FR Doc. 2017-26392 Filed 12-6-17; 8:45 am]

BILLING CODE 6717-01-P